NATIONAL AERONAUTICS AND SPACE ADMINISTRATION

[Notice (03-142)]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: November 4, 2003.

FOR FURTHER INFORMATION CONTACT: Rob M. Padilla, Patent Counsel, Ames Research Center, Mail Code 202A-4, Moffett Field, CA 94035-1000; telephone (650) 604-5104; fax (650) 604-2767.

NASA Case No. ARC-14281-3: Method For Constructing Composite Resonse Surfaces By Combining Neural Networks With Polynomial Interpolation Or Estimation Techniques;

NASA Case No. ARC-14929-1: Reactive Carbon From Biological Waste;

NASA Case No. ARC-14948-1: Computing An Envelope For Stepwise-Constant Resource Allocations;

NASA Case No. ARC-15036-1: Aviation Data Integration System (ADIS): Secure Integration Of Aviation Data With De-Identified Flight Data;

NASA Case No. ARC-15088-2: Provision Of Carbon Nanotube Bucky Paper Capes For Monitoring For Presence Of A Substance.

Dated: October 29, 2003.
Robert M. Stephens,
Deputy General Counsel.

[FR Doc. 03-27685 Filed 11-3-03; 8:45 am]

BILLING CODE 7510-01-P